DEPARTMENT OF HOUSING AND URBAN DEVELOPMENT

[Docket No. FR-5186-N-36]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Coast Guard: Commandant (G-SEC), USCG, Attn: Melissa Evans, 1900 Half St., SW., CG-431, Washington, DC 20593; (202) 475-5628; GSA: Mr. John Smith, Deputy Assistant Commissioner, General Services Administration, Office of Property Disposal, 18th & F Streets, NW., Washington, DC 20405; (202) 501-0084; Interior: Mr. Michael Wright, Acquisition & Property Management, Department of the Interior, 1849 C Street, NW., Washington, DC 20240; (202) 208-5399; (These are not toll-free numbers).

Dated: August 28, 2008.
Mark R. Johnston,
Deputy Assistant Secretary for Special Needs.

Title V, Federal Surplus Property Program Federal Register Report for 09/05/2008

Suitable/Available Properties

Building

Washington

Bldg. 127

Yakima Project

1917 Marsh Road

Yakima WA 98901

Landholding Agency: Interior

Property Number: 61200630015

Status: Excess

Comments: 1152 sq. ft., most recent use—office, off-site use only

Bldg. 133

Yakima Project

1917 Marsh Road

Yakima WA 98901

Landholding Agency: Interior

Property Number: 61200630016

Status: Excess

Comments: 1680 sq. ft., most recent use—office, off-site use only

Residence

Riverside Road

Yakima WA 98901

Landholding Agency: Interior

Property Number: 61200710010

Status: Unutilized

Comments: 756 sq. ft., off-site use only

Suitable/Available Properties

Building

Washington

Bldg. 1933

50 Acre Drive

Eltopia WA 99330

Landholding Agency: Interior

Property Number: 61200720006

Status: Unutilized

Comments: 709 sq. ft., most recent use—residence, possible asbestos/lead paint, off-site use only

Bldg. 1933g

50 Acre Drive

Eltopia WA 99330

Landholding Agency: Interior

Property Number: 61200720007

Status: Unutilized

Comments: 264 sq. ft., most recent use—garage, possible asbestos/lead paint, off-site use only

Bldg. 1934

40 Acre Drive

Eltopia WA

Landholding Agency: Interior

Property Number: 61200720008

Status: Unutilized

Comments: 709 sq. ft., most recent use—residence, possible asbestos/lead paint, off-site use only

Bldg. 1934g

40 Acre Drive

Eltopia WA 99330

Landholding Agency: Interior

Property Number: 61200720009

Status: Unutilized

Comments: 264 sq. ft., most recent use—garage, possible asbestos/lead paint, off-site use only

Suitable/Available Properties

Land

New Mexico

Portion

Griegos Drain

Albuquerque NM 87104

Landholding Agency: Interior

Property Number: 61200820002

Status: Unutilized

Comments: 0.0656 acres, encroachment, limited access

Suitable/Unavailable Properties

Building

Colorado

Federal Building

1520 E. Willamette St.

Colorado Springs Co: El Paso CO 80909

Landholding Agency: GSA

Property Number: 54200640004

Status: Excess

GSA Number: 7-G-CO-0660

Comments: 50,363 sq. ft., needs major rehab, available in approx. 24 months, legal constraints, published incorrectly on 8/15/08 as available

Suitable/Unavailable Properties

Building

Oklahoma

Maintenance Site

Rt. 1

Tupelo OK 74572

Landholding Agency: GSA

Property Number: 54200820016

Status: Excess

GSA Number: 7-GR-OK-0574

Comments: office/garage/storage, easement restrictions, published incorrectly on 8/15/2008 as available

Land

Texas

FAA Outer Marker 18 R/L VYN

1420 Lakeside Pkwy

Flower Mound TX 75028

Landholding Agency: GSA

Property Number: 54200820017

Status: Surplus

GSA Number: 7-U-TX-1090

Comments: 1.428 acres, radar facility, published incorrectly on 8/15/08 as available

FAA Outer Marker 31R RAA

1600 Cooper Drive

Irving TX 75061

Landholding Agency: GSA

Property Number: 54200820018

Status: Surplus

GSA Number: 7-U-TX-1095

Comments: 0.305 acre, radar facility, published incorrectly on 8/15/08 as available

Suitable/Unavailable Properties

Land

Texas

FAA Outer Marker 35R AJQ

300 W. Shady Grove

Grand Prairie TX 75050

Landholding Agency: GSA

Property Number: 54200820019

Status: Surplus

GSA Number: 7-U-TX-1094

Comments: 0.674 acre, radar facility, published incorrectly on 8/15/08 as available

Unsuitable Properties

Building

Alaska

Radar Tower

Potato Point Comm Site

Valdez AK

Landholding Agency: Coast Guard

Property Number: 88200710001

Status: Excess

Reasons: Not accessible by road Within 2000 ft. of flammable or explosive material Secured Area

Unsuitable Properties

Building

Alaska

Bldg. 12B

Integrated Support Command

Kodiak AK

Landholding Agency: Coast Guard

Property Number: 88200810003

Status: Excess

Reasons: Extensive deterioration Secured Area Within 2000 ft. of flammable or explosive material

Bldg. 554

Integrated Support Command

Kodiak AK

Landholding Agency: Coast Guard

Property Number: 88200810004

Status: Excess

Reasons: Within 2000 ft. of flammable or explosive material Secured Area

Bldg. B02

USCG DGPS

Annette Island AK 99926

Landholding Agency: Coast Guard

Property Number: 88200820001

Status: Excess

Reasons: Secured Area

Unsuitable Properties

Building

Alaska

Bldg. B02

USCG DGPS

Gustavus AK 99826

Landholding Agency: Coast Guard

Property Number: 88200820002

Status: Excess

Reasons: Secured Area

Arizona

Bldg. 1509

National Park

Grand Canyon AZ 86023

Landholding Agency: Interior

Property Number: 61200740002

Status: Unutilized

Reasons: Extensive deterioration

California

Bldg. 800

National Park

Yosemite CA 95389

Landholding Agency: Interior

Property Number: 61200740003

Status: Unutilized

Reasons: Extensive deterioration

Unsuitable Properties

Building

California

Bldg. 19

USCG Integrated Sup Comm

San Pedro CA 90731

Landholding Agency: Coast Guard

Property Number: 88200820004

Status: Unutilized

Reasons: Extensive deterioration

Colorado

Bldg. 988

Rocky Mtn Natl Park

Estes Park CO 80517

Landholding Agency: Interior

Property Number: 61200820003

Status: Unutilized

Reasons: Extensive deterioration

Florida

Bldgs. 421, 422

Everglades National Park

Flamingo District

Monroe FL

Landholding Agency: Interior

Property Number: 61200720012

Status: Unutilized

Reasons: Extensive deterioration

Unsuitable Properties

Building

Florida

Bldg. 701

Everglades National Park

Chekika

Monroe FL

Landholding Agency: Interior

Property Number: 61200720018

Status: Unutilized

Reasons: Extensive deterioration

Bldgs. 714A, 717

Everglades National Park

Chekika

Monroe FL

Landholding Agency: Interior

Property Number: 61200720019

Status: Unutilized

Reasons: Extensive deterioration

Waste Water Treatment Plant

Everglades National Park

Chekika

Monroe FL

Landholding Agency: Interior

Property Number: 61200720020

Status: Unutilized

Reasons: Extensive deterioration

Unsuitable Properties

Building

Idaho

8 Buildings

Palmer Residence

Montour ID

Landholding Agency: Interior

Property Number: 61200730004

Status: Unutilized

Reasons: Extensive deterioration

Bldg. 4

Spalding Ave/Watson Store Rd

Spalding ID 83540

Landholding Agency: Interior

Property Number: 61200820001

Status: Excess

Reasons: Extensive deterioration

Massachusetts

Bldg. 5202

USCG Air Station

Bourne MA 02540

Landholding Agency: Coast Guard

Property Number: 88200810002

Status: Unutilized

Reasons: Extensive deterioration, Secured Area

Unsuitable Properties

Building

Michigan

Admin. Bldg.

Station Saginaw River

Essexville Co: Bay MI 48732

Landholding Agency: Coast Guard

Property Number: 88200510001

Status: Unutilized

Reasons: Secured Area, Extensive deterioration

Minnesota

House

Glacial Ridge

13997 Hwy 2W

Red Lake Falls MN

Landholding Agency: Interior

Property Number: 61200720004

Status: Excess

Reasons: Extensive deterioration

North Carolina

RPFN 0S1

Group Cape Hatteras

Buxton Co: Dare NC 27902

Landholding Agency: Coast Guard

Property Number: 88200540001

Status: Unutilized

Reasons: Extensive deterioration, Secured Area

Unsuitable Properties

Building

North Carolina

RPFN 053

Sector NC

Atlantic Beach Co: Carteret NC 28512

Landholding Agency: Coast Guard

Property Number: 88200540002

Status: Unutilized

Reasons: Secured Area, Extensive deterioration

Equip. Bldg.

Coast Guard Station

11101 Station St.

Emerald Isle NC

Landholding Agency: Coast Guard

Property Number: 88200630001

Status: Unutilized

Reasons: Secured Area

Ohio

Naval Reserve Center

Cleveland OH 44114

Landholding Agency: Coast Guard

Property Number: 88200740002

Status: Unutilized

Reasons: Within airport runway clear zone Secured Area Within 2000 ft. of flammable or explosive material

Unsuitable Properties

Building

Puerto Rico

Sectors #42, #44

Natl Historic Site

San Miguel PR

Landholding Agency: Interior

Property Number: 61200740004

Status: Unutilized

Reasons: Extensive deterioration

Virginia

Bldgs. 325, 321

Skyline Drive

Luray Co: Page VA 22835

Landholding Agency: Interior

Property Number: 61200710008

Status: Excess

Reasons: Extensive deterioration

Martin House

Tract 07-101

Dinwiddie VA 23841

Landholding Agency: Interior

Property Number: 61200820005

Status: Excess

Reasons: Extensive deterioration

Quarters #50

1541 Hickory Hill Road

Petersburg VA 23803

Landholding Agency: Interior

Property Number: 61200820006

Status: Excess

Reasons: Extensive deterioration

Unsuitable Properties

Building

Virginia

Davis House

Tract 01-137

Petersburg VA 23803

Landholding Agency: Interior

Property Number: 61200820007

Status: Excess

Reasons: Extensive deterioration

Training Bldg.

USCG Integrated Support Ctr

Portsmouth Co: Norfolk VA 43703

Landholding Agency: Coast Guard

Property Number: 88200530001

Status: Excess

Reasons: Secured Area

Bldg. 011

Integrated Support Center

Portsmouth Co: Norfolk VA 43703

Landholding Agency: Coast Guard

Property Number: 88200620002

Status: Excess

Reasons: Secured Area

9 Bldgs.

USCG Cape Charles Station

Winters Quarters

Northampton VA 23310

Landholding Agency: Coast Guard

Property Number: 88200740001

Status: Unutilized

Reasons: Extensive deterioration

Unsuitable Properties

Building

Virginia

Navigation Center Trailer

USCG TISCOM

Alexandria VA 22315

Landholding Agency: Coast Guard

Property Number: 88200820003

Status: Excess

Reasons: Secured Area

Washington

Bldg. 128

Yakima Project

Yakima WA 98901

Landholding Agency: Interior

Property Number: 61200630018

Status: Excess

Reasons: Extensive deterioration

Bldgs. 0304, 0305

22416 Road F NE

Soap Lake Co: Grant WA 98851

Landholding Agency: Interior

Property Number: 61200640003

Status: Excess

Reasons: Extensive deterioration

Bldgs. 0801, 0804

Frontage Road

West Quincy Co: Grant WA 98848

Landholding Agency: Interior

Property Number: 61200640004

Status: Excess

Reasons: Extensive deterioration

Unsuitable Properties

Building

Washington

Bldgs. 1202, 1203

S. Maple

Warden Co: Grant WA 98857

Landholding Agency: Interior

Property Number: 61200640005

Status: Excess

Reasons: Extensive deterioration

Bldgs. 1702, 1707

Highway Heights

Mesa Co: Franklin WA 99343

Landholding Agency: Interior

Property Number: 61200640006

Status: Excess

Reasons: Extensive deterioration

Bldg. 1806

Klamath Road

Mesa Co: Franklin WA 99343

Landholding Agency: Interior

Property Number: 61200640007

Status: Excess

Reasons: Extensive deterioration

Bldg. 134

North Cascades Natl Park

Stehekin Co: Chelan WA 98852

Landholding Agency: Interior

Property Number: 61200710009

Status: Unutilized

Reasons: Extensive deterioration

Unsuitable Properties

Building

Washington

Bldg. 9470-0009

North Cascades Natl Park

Stehekin Co: Chelan WA

Landholding Agency: Interior

Property Number: 61200720003

Status: Unutilized

Reasons: Extensive deterioration

Bldgs. 62, 63

Yakima WA 98944

Landholding Agency: Interior

Property Number: 61200740005

Status: Unutilized

Reasons: Extensive deterioration

5 Bldgs.

74, 75, 77, 78, 79

Yakima WA 98944

Landholding Agency: Interior

Property Number: 61200740006

Status: Unutilized

Reasons: Extensive deterioration

Residence 0033008500

Kennewick WA 99338

Landholding Agency: Interior

Property Number: 61200820008

Status: Unutilized

Reasons: Extensive deterioration

Unsuitable Properties

Building

Wisconsin

Bldg. OV1

USCG Station

Bayfield WI 54814

Landholding Agency: Coast Guard

Property Number: 88200620001

Status: Excess

Reasons: Secured Area

Land

California

0.038 acre

Ortega Reservoir

Summerland CA 93067

Landholding Agency: Interior

Property Number: 61200710012

Status: Unutilized

Reasons: Other—inaccessible

Colorado

0.04 acres

Vega Reservoir

Collbran CO 81624

Landholding Agency: Interior

Property Number: 61200720001

Status: Excess

Reasons: Other—right-of-way

Unsuitable Properties

Land

Utah

0.47 acre

Feeder Canal

Hyrum UT 84319

Landholding Agency: Interior

Property Number: 61200740007

Status: Excess

Reasons: Other—landlocked

0.47 acre

Hyrum Feeder Canal

Hyrum UT 84319

Landholding Agency: Interior

Property Number: 61200820004

Status: Excess

Reasons: Other—landlocked

[FR Doc. E8-20463 Filed 9-4-08; 8:45 am]

BILLING CODE 4210-67-P